DEPARTMENT OF ENERGY

Federal Energy Regulatory Commission

[Docket No. CP20-527-000]

Columbia Gulf Transmission, LLC; Notice of Availability of the Final Environmental Impact Statement for the Proposed East Lateral Xpress Project

The staff of the Federal Energy Regulatory Commission (FERC or Commission) has prepared a final environmental impact statement (EIS) for the East Lateral XPress Project (Project), proposed by Columbia Gulf Transmission, LLC (Columbia Gulf) in the above-referenced docket. Columbia Gulf requests authorization to construct and operate natural gas transmission facilities in Louisiana. The Project is designed to provide a total of 725 million standard cubic feet per day of firm transportation capacity, through a combination of incremental and existing capacity on Columbia Gulf's interstate natural gas pipeline system, to an interconnect with Venture Global Gator Express, LLC, for ultimate delivery as feed gas for Venture Global Plaquemines LNG, LLC's facility in Plaquemines Parish.

The final EIS responds to comments that were received on the Commission's March 16, 2021 Environmental Assessment (EA) and June 25, 2021 draft EIS ¹ and discloses downstream greenhouse gas emissions for the Project. With the exception of climate change impacts, the FERC staff concludes that approval of the proposed Project, with the mitigation measures recommended in this EIS, would not result in significant environmental impacts. FERC staff continues to be unable to determine significance with regards to climate change impacts.

¹ The Project's EA is available on eLibrary under accession no. 20210316-3010 and the draft EIS is available under accession no. 20210625-3010.

The final EIS incorporates the above referenced EA, which addressed the potential environmental effects of the construction and operation of the following Project facilities:

• 8.1 miles of 30-inch-diameter pipeline lateral within Barataria Bay in Jefferson and Plaquemines Parish, Louisiana;

• Centerville Compressor Station—a new 23,470-horsepower (hp) compressor station at an abandoned Columbia Gulf compressor station site in St. Mary Parish, Louisiana;

• Golden Meadow Compressor Station—a new 23,470-hp compressor station adjacent to an existing tie-in facility in Lafourche Parish, Louisiana;

• a point of delivery meter station in Plaquemines Parish, Louisiana; and

• a tie-in facility with two mainline valves and other appurtenances on a new platform in Barataria Bay, Jefferson Parish, Louisiana.

The Commission mailed a copy of the Notice of Availability of the Final Environmental Impact Statement for the Proposed East Lateral Xpress Project to federal, state, and local government representatives and agencies; elected officials; environmental and public interest groups; Native American tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search”, and enter the docket number in the “Docket Number” field (i.e., CP20-527). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: September 21, 2021.
Kimberly D. Bose,
Secretary.

[FR Doc. 2021-20995 Filed 9-27-21; 8:45 am]

BILLING CODE 6717-01-P